DEPARTMENT OF DEFENSE

Office of the Secretary

[DOD-2006-OS-0200]

Privacy Act of 1974; System of Records

AGENCY: National Reconnaissance Office.

ACTION: Notice to amend a system of records.

SUMMARY: The National Reconnaissance Office is amending a system of records notice in its existing inventory of record systems subject to the Privacy Act of 1974, (5 U.S.C. 552a), as amended.

DATES: This proposed action will be effective without further notice on November 2, 2006 unless comments are received which result in a contrary determination.

ADDRESSES: Send comments to the FOIA/Privacy Official, National Reconnaissance Office, Information Access and Release, 14675 Lee Road, Chantilly, VA 20151-1715.

FOR FURTHER INFORMATION CONTACT: Contact Ms. Linda Hathaway at (703) 227-9128.

SUPPLEMENTARY INFORMATION: The National Reconnaissance Office systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 27, 2006.
C.R. Choate,
Alternate OSD Federal Register Liaison Officer, Department of Defense.

QNRO-15

System name:

Facility Security Files (February 23, 2001, 66 FR 11276).

Changes:

* * * * *

System Location:

Delete name of office and replace with “Office of Security and Counterintelligence.”

* * * * *

Categories of records in the system:

In the first paragraph add “job title” and “access personal identification number” and delete “auto emissions compliance (yes or no).”

In the third paragraph, add “driver's license data.”

In the fourth paragraph, add “employee number, passport number, and billet number.”

Authority for maintenance of the system:

Delete entry and replace with “5 U.S.C. 301, Departmental Regulations; National Security Act of 1947, as amended, 50 U.S.C. 401 et seq.; E.O. 9397; E.O. 12333; and DoD 5240.1-R, Procedures Governing the Activities of DoD Intelligence Components that affect United States Persons.”

Purposes:

Delete “Facility Security Services” and replace with “Facility Security Branch.”

In the last clause, change “track” to “assist in.”

Retrievability:

Delete entry and replace with “name, social security number, organization, home and work address, date and place of birth, badge number, and vehicle license plate number.”

System manager(s) and address:

Delete name of system manager and replace with “Director, Office of Security and Counterintelligence.”

Contesting record procedures:

Delete “110-3A” and replace with “110-3b” and delete “110-5A” and replace with “110-3-1.”

Record Source categories:

Delete entry and replace with “Information is supplied by the individual and persons other than the individual.”

* * * * *

QNRO-15

System name:

Facility Security Files.

System location:

Office of Security and Counterintelligence, National Reconnaissance Office, 14675 Lee Road, Chantilly, VA 20151-1715.

Categories of individuals covered by the system:

National Reconnaissance Office (NRO) civilian, military, and contractor personnel who have been issued an NRO badge for entry onto the gated compound and into the facility; all other visitors who do not possess an NRO recognized badge but have been granted access to the NRO compound and facility; and any individuals who make unsolicited contact with the NRO.

Categories of records in the system:

For badged personnel information includes: Name, Social Security Number, grade or rank, job title, employer, organization, office location, work telephone number, vehicle license plate number, date and place of birth, home address and telephone number, point of contact and emergency phone number, badge status, type, number, and issue date, government sponsor, start and expiration dates, approving officer, access and access status, access approval identification, access request date and approval date, access briefing and debriefing dates, access personal identification number, investigation and re-indoctrination dates, polygraph date and status, communication message designator and tracking number;

For visit requests information includes: Name, Social Security Number, organization (affiliation), employer of visitor, cleared or uncleared status, the visit point of contact's name and telephone number, visit date, type of badge to be issued, person issuing badge, date issued, location of visit, visit message, visit group identifier, access or certification access date, and any special accommodation or needs, such as handicap parking or wheelchair access;

For unsolicited contacts information may include: Name, Social Security Number, date and place of birth, home address and telephone number, driver's license data, vehicle license plate number, the correspondence received, and occasionally comments on the contact; information may be limited to that which the person making contact is willing to offer; and

For access control information includes: Name, Social Security Number, employment status, access expiration date, picture of employee, employee number, passport number, billet number, telephone number, vehicle license plate number, date of visit, point of contact, and the times and locations of access to the secure areas of the facility; fields of information for an NRO employee may differ from those for a visitor.

Authority for maintenance of the system:

5 U.S.C. 301, Departmental Regulations; National Security Act of 1947, as amended, 50 U.S.C. 401 et seq.; E.O. 9397; E.O. 12333; and DoD 5240.1-R, Procedures Governing the Activities of DoD Intelligence Components that affect United States Persons.

Purpose(s):

The NRO collects and maintains the records (a) To maintain and provide reports for and on personnel and badge information of the current tenants of authorized facilities; also to create and track the status of visit requests and the issuance of visitor badges; (b) To identify employees and visitors at the entrances of the gated facility; tracking inside the NRO facility the NRO employee and visitor badges as they are used to pass through turnstiles and access office suites and other work areas; (c) To track any unsolicited contacts with the NRO, whether by correspondence or personal contact; to provide a threat assessment program for the Facility Security Branch; and to assist in the investigation and determination of any wrongdoing or criminal activities by NRO employees or facility visitors.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routines Uses’ published at the beginning of the NRO compilation of systems of records notices apply to this system.

Policies and practices for storing, retrieving, accessing, retaining, and disposing of records in the system:

Storage:

Paper files and automated information systems, maintained in computers and computer output products.

Retrievability:

Name, social security number, organization, home and work address, date and place of birth, badge number, and vehicle license plate number.

Safeguards:

Records are stored in a secure, gated facility, guard, badge, and password access protected. Access to and use of these files are limited to security staff whose official duties require such access. The automated systems in some cases are partitioned and users of the systems may access only those records for which they have access privileges.

Retention and disposal:

Records are temporary, retained for 3 months to 5 years depending on the type of record; unsolicited contact records are retained for 25 years before being destroyed.

System manager(s) and address:

Director, Office of Security and Counterintelligence, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name and any aliases or nicknames, address, Social Security Number, current citizenship status, date and place of birth, and other information identifiable from the record.

In addition, the requester must provide a notarized statement or an unsworn declaration made in accordance with 28 U.S.C. 1746, in the following format:

If executed without the United States: I declare (or certify, verify, or state under penalty of perjury under the laws of the United States of America that the foregoing is true and correct. Executed on (date). Signature.

If executed within the United States, its territories, possessions, or commonwealths: I declare (or certify, verify, or state) under penalty of perjury that the foregoing is true and correct. Executed on (date). Signature.

Record access procedures:

Individuals seeking to access information about themselves contained in this system should address written inquiries to the National Reconnaissance Office, Information Access and Release Center, 14675 Lee Road, Chantilly, VA 20151-1715.

Request should include the individual's full name and any aliases or nicknames, address, Social Security Number, current citizenship status, date and place of birth, and other information identifiable from the record.

In addition, the requester must provide a notarized statement or an unsworn declaration made in accordance with 28 U.S.C. 1746, in the following format:

If executed without the United States: ‘I declare (or certify, verify, or state under penalty of perjury under the laws of the United States of America that the foregoing is true and correct. Executed on (date). Signature.’

If executed within the United States, its territories, possessions, or commonwealths: ‘ I declare (or certify, verify, or state) under penalty of perjury that the foregoing is true and correct. Executed on (date). Signature.’

Contesting record procedures:

The NRO rules for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

Information is supplied by the individual and persons other than the individual.

Exemptions claimed for the system:

Investigatory material compiled for law enforcement purposes, other than material within the scope of subsection (j)(2), may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for Federal civilian employment, military service, Federal contracts, or access to classified information may be exempt pursuant to 5 U.S.C. 552a(k)(5), but only to the extent that such material would reveal the identity of a confidential source.

An exemption rule for this exemption has been promulgated in accordance with requirements of 5 U.S.C. 553(b)(1), (2), and (3), (c) and (e) and published in 32 CFR part 326. For additional information contact the system manager.

[FR Doc. E6-16289 Filed 10-2-06; 8:45 am]

BILLING CODE 5001-06-P